DEPARTMENT OF VETERANS AFFAIRS

Joint Biomedical Laboratory Research and Development and Clinical Science Research and Development Services Scientific Merit Review Board Panel for Eligibility; Notice of Meeting

The Department of Veterans Affairs (VA) gives notice under the Public Law 92-463 (Federal Advisory Committee Act) that the Panel for Eligibility of the Joint Biomedical Laboratory Research and Development and Clinical Science Research and Development Services Scientific Merit Review Board will meet on Monday, January 24, 2011, from 8 a.m. to 12 noon, at The St. Gregory Luxury Hotel and Suites, 2033 M Street, NW., Washington, DC.

The purpose of the Merit Review Board is to provide advice on the scientific quality, budget, safety and mission relevance of investigator-initiated research proposals submitted for VA merit review consideration. Proposals submitted for review by the Board involve a wide range of medical specialties within the general areas of biomedical, behavioral and clinical science research.

The panel meeting will be open to the public for approximately one-half hour at the start of the meeting to discuss the general status of the program. The remaining portion of the meeting will be closed to the public for the review, discussion, and evaluation of non-clinician credentials and research proposals to be performed for VA.

The closed portion of the meeting involves discussion, examination, reference to staff and consultant critiques of non-clinician credentials and research proposals. As provided by subsection 10(d) of Public Law 92-463, as amended, closing portions of a panel meeting is in accordance with 5 U.S.C., 552b(c) (6) and (9)(B).

Those who plan to attend or would like to obtain a copy of minutes of the panel meeting and roster of the participants of the panel should contact LeRoy G. Frey, Ph.D., Chief, Program Review, at Department of Veterans Affairs (121F), 810 Vermont Avenue, NW., Washington, DC 20420, or e-mail at Leroy.frey@va.gov or call at (202) 461-1664.

Dated: January 3, 2011.
By Direction of the Secretary.
Vivian Drake,
Acting Advisory Committee Management Office.

[FR Doc. 2011-75 Filed 1-6-11; 8:45 am]

BILLING CODE 8320-01-P